SECURITIES AND EXCHANGE COMMISSION

Issuer Delisting; Notice of Application To Withdraw From Listing and Registrations; (Rogers Corporation, Capital Stock, $1 Par Value, and Rights to Purchase Capital Stock, $1 Par Value) File No. 1-04347

May 2, 2000.

Rogers Corporation (“Company”) has filed an application with the Securities and Exchange Commission (“Commission”), pursuant to Section 12(d) of the Securities Exchange Act of 1934 (“Act”) ¹ and Rule 12d2-2(d) thereunder, ² to withdraw the securities to described above (“Securities”) from listing and registration on the American Stock Exchange LLC (“Amex”).

¹ 15 U.S.C. 78l(d).

² 17 CFR 240.12d2-2(d).

The Company is seeking to withdraw its Securities from listing and registration on the Amex in conjunction with the commencement of their trading on the New York Stock Exchange, Inc. (“NYSE”). The Company hopes that, with a NYSE listing, it will be able to realize a broader market base for its Securities than it has had through the Amex.

Subsequent to the filing of the Company's Registration Statements on Form 8-A with the Commission, which became effective on April 6, 2000, trading in the Securities commenced on the NYSE, and was simultaneously suspended on the Amex, at the opening if business on April 18, 2000. In making the determination to withdraw its Securities from listing and registration on the Amex in conjunction with the new listing and registration on the NYSE, the Company hopes to avoid both the costs associated with maintaining dual listings and potential fragmentation of the market for its Securities.

The Company has stated that it has complied with the rules of Amex governing the withdrawal of its Securities, and the Amex in turn has indicated that it will not opposed such withdrawal.

The Company's application relates solely to the withdrawal of the Securities from listing and registration on the Amex and shall have no effect no effect upon the Securities' continued listing and registration on the NYSE. By reason of Section 12(b) of the Act ³ and the rules and regulations of the Commission thereunder, the Company shall continue to be obligated to file reports with the Commission under Section 13 of the Act.⁴

³ 15 U.S.C. 78l(b).

⁴ 15 U.S.C. 78m.

Any interested person may, on or before May 23, 2000, submit by letter to the Secretary of the Securities and Exchange Commission, 450 Fifth Street, N.W., Washington, D.C. 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵

⁵ 17 CFR 200.30-3(a)(1).

Jonathan G. Katz,
Secretary.

[FR Doc. 00-11404 Filed 5-5-00; 8:45 am]

BILLING CODE 8010-01-M